DEPARTMENT OF THE TREASURY

Submission for OMB Review; Comment Request

March 21, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 29, 2002 to be assured of consideration.

Departmental Offices/Office of Foreign Assets Control

OMB Number: 1505-0092.

Form Number: None.

Type of Review: Extension.

Title: Libyan Sanctions Regulations.

Description: Submissions will provide the U.S. Government with information to be used in enforcing sanctions against Libya, including prohibitions on travel and financial dealings.

Respondents: Individuals or households, Federal Government.

Estimated Number of Respondents: 5.

Estimated Burden Hours Per Respondent: 1 hour.

Frequency of Response: On occasion.

Estimated Total Reporting Burden: 5 hours.

OMB Number: 1505-0167.

Form Number: TD F 90-22.52.

Type of Review: Extension.

Title: Cuban Remittance Affidavit.

Description: Submissions will provide the U.S. Government with information to be used in enforcing the prohibitions on the transmission of funds to Cuba by persons subject to U.S. jurisdiction.

Respondents: Individuals or households, business or other for-profit, Federal Government.

Estimated Number of Respondents/Recordkeepers: 1,000,000.

Estimated Burden Hours Per Respondent/Recordkeeper: 1 minute.

Frequency of Response: Other (variable).

Estimated Total Reporting/Recordkeeping Burden: 66,667 hours.

OMB Number: 1505-0168.

Form Number: None.

Type of Review: Extension.

Title: Travel Service Provider and Carrier Service Provider Submission.

Description: Submissions will provide the U.S. Government with information to be used in enforcing various economic sanctions programs administered by Office of Foreign Assets Control (OFAC) under 31 CFR Chapter V.

Respondents: Business or other for-profit.

Estimated Number of Respondents/Recordkeepers: 175.

Estimated Burden Hours Per Respondent/Recordkeeper: 5 minutes.

Frequency of Response: Other (variable).

Estimated Total Reporting/Recordkeeping Burden: 19,000 hours.

Clearance Officer: Lois K. Holland (202) 622-1563, Departmental Offices, Room 2110, 1425 New York Avenue, NW, Washington, DC 20220.

OMB Reviewer: Alexander T. Hunt (202) 395-7860, Office of Management and Budget, Room 10202, New Executive Office Building, Washington, DC 20503.

Lois K. Holland,
Departmental Reports Management Officer.

[FR Doc. 02-7562 Filed 3-28-02; 8:45 am]

BILLING CODE 4810-25-P